DEPARTMENT OF COMMERCE

International Trade Administration

[A-489-816]

Certain Oil Country Tubular Goods From Turkey: Final Results of Antidumping Duty Administrative Review; 2016-2017

AGENCY: Enforcement and Compliance, International Trade Administration, Department of Commerce.

SUMMARY: The Department of Commerce (Commerce) finds that oil country tubular goods (OCTG) from Turkey have been sold at less than normal value during the period of review (POR) September 1, 2016, through August 31, 2017.

DATES: Applicable December 13, 2018.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On June 11, 2018, Commerce published the Preliminary Results of the administrative review.¹ We invited interested parties to comment on the Preliminary Results and received case and rebuttal briefs from interested parties.² On August 23, 2018, Commerce held a public hearing. After reviewing comments submitted by interested parties, Commerce determined to conduct a formal inquiry into the bona fides nature of the U.S. sale reported by the mandatory respondent, Çayirova Boru Sanayi ve Ticaret A.Ş. and Yücel Boru Ithalat-Ihracat ve Pazarlama A.Ş. (collectively, Yücel) in this review.³ On September 24, 2018, Commerce extended the deadline for the final results by 59 days to December 7, 2018.⁴ On October 30, 2018, Commerce reached a determination that Yücel's U.S. sale subject to this review is a bona fide transaction and invited interested parties to comment on this determination.⁵ On November 5, 2018, U.S. Steel submitted a case brief, and on November 7, 2018, Yücel submitted its rebuttal brief.⁶

¹ See Certain Oil Country Tubular Goods from Turkey: Preliminary Results of Antidumping Duty Administrative Review; 2016-2017, 83 FR 26957 (June 11, 2018) (Preliminary Results) and Memorandum, “Certain Oil Country Tubular Goods from Turkey: Decision Memorandum for Preliminary Results of Antidumping Duty Administrative Review; 2016-2017,” dated June 5, 2018 (Preliminary Decision Memorandum).

² See case brief from the petitioner, United States Steel Corporation, “Re: Oil Country Tubular Goods from Turkey: U.S. Steel's Case Brief,” dated July 11, 2018, and a rebuttal brief from a mandatory respondent, Çayirova Boru Sanayi ve Ticaret A.Ş. and Yücel Boru İthalat-İhracat ve Pazarlama A.Ş, “Re: OCTG from Turkey; Yücel rebuttal brief,” dated July 16, 2018.

³ We previously determined these companies to constitute a single entity (hereinafter, Yücel). See Certain Oil Country Tubular Goods from the Republic of Turkey: Final Determination of Sales at Less Than Fair Value and Affirmative Final Determination of Critical Circumstances in Part, 79 FR 41971, 41973 (July 18, 2014).

⁴ See Memorandum, “Certain Oil Country Tubular Goods from Turkey: Extension of Deadline for Final Results of Antidumping Duty Administrative Review,” dated September 24, 2018.

⁵ See Commerce's memorandum, “2016-2017 Antidumping Duty Administrative Review of Oil Country Tubular Goods from Turkey: Bona Fides Analysis of the U.S. Sale Made by Çayirova Boru Sanayi ve Ticaret A.Ş. and Yücel Boru İthalat-İhracat ve Pazarlama A.Ş.,” dated October 30, 2018.

⁶ See Letter from the petitioner, “Re: Oil Country Tubular Goods from Turkey: U.S. Steel's Case Brief Concerning Commerce's Bona Fides Analysis,” dated November 5, 2018 and Letter from Yücel, “Re: OCTG from Turkey; Yücel rebuttal brief regarding bona fides of U.S. sale,” dated November 7, 2018.

Commerce conducted this review in accordance with section 751(a)(1)(B) of the Tariff Act of 1930, as amended (the Act).

Scope of the Order

The merchandise covered by the order is certain OCTG. The merchandise subject to the order is currently classified in the Harmonized Tariff Schedule of the United States (HTSUS) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.50.15, 7304.29.50.30, 7304.29.50.45, 7304.29.50.60, 7304.29.50.75, 7304.29.61.15, 7304.29.61.30, 7304.29.61.45, 7304.29.61.60, 7304.29.61.75, 7305.20.20.00, 7305.20.40.00, 7305.20.60.00, 7305.20.80.00, 7306.29.10.30, 7306.29.10.90, 7306.29.20.00, 7306.29.31.00, 7306.29.41.00, 7306.29.60.10, 7306.29.60.50, 7306.29.81.10, and 7306.29.81.50.

The merchandise subject to the order may also enter under the following HTSUS item numbers: 7304.39.00.24, 7304.39.00.28, 7304.39.00.32, 7304.39.00.36, 7304.39.00.40, 7304.39.00.44, 7304.39.00.48, 7304.39.00.52, 7304.39.00.56, 7304.39.00.62, 7304.39.00.68, 7304.39.00.72, 7304.39.00.76, 7304.39.00.80, 7304.59.60.00, 7304.59.80.15, 7304.59.80.20, 7304.59.80.25, 7304.59.80.30, 7304.59.80.35, 7304.59.80.40, 7304.59.80.45, 7304.59.80.50, 7304.59.80.55, 7304.59.80.60, 7304.59.80.65, 7304.59.80.70, 7304.59.80.80, 7305.31.40.00, 7305.31.60.90, 7306.30.50.55, 7306.30.50.90, 7306.50.50.50, and 7306.50.50.70.

While the HTSUS subheadings are provided for convenience and customs purposes, the written description is dispositive. A full description of the scope of the order is contained in the Issues and Decision Memorandum.⁷

⁷ See Memorandum, “Certain Oil Country Tubular Goods from Turkey: Issues and Decision Memorandum for the Final Results of Antidumping Duty Administrative Review,” dated concurrently with, and hereby adopted by this notice (Issues and Decision Memorandum).

Finding of No Shipments

The record evidence in this review indicates that Tosçelik Profil ve Sac Endüstrisi A.Ş. and Tosyali Dis Ticaret A.S. (collectively, Tosçelik) ⁸ had no exports, sales, or entries of subject merchandise to the United States during the POR. Accordingly, we determine that Tosçelik had no shipments during the POR. For additional information on our preliminary finding of no shipments, see the Preliminary Decision Memorandum. Accordingly, consistent with Commerce's practice, we will issue appropriate instructions to U.S. Customs and Border Protection (CBP) based on our final results.

⁸ We previously determined these companies to constitute a single entity. See Certain Oil Country Tubular Goods from Turkey: Preliminary Results of Antidumping Duty Administrative Review; 2015-2016, 82 FR 42285 (September 7, 2017) (unchanged in Certain Oil Country Tubular Goods from Turkey: Final Results of Antidumping Duty Administrative Review; 2015-2016, 83 FR 1240 (January 10, 2018)).

Analysis of Comments Received

All issues raised in the case and rebuttal briefs by parties in this review are addressed in the Issues and Decision Memorandum. A list of the issues raised is attached as an Appendix to this notice. The Issues and Decision Memorandum is a public document and is made available to the public via Enforcement and Compliance's Antidumping and Countervailing Duty Centralized Electronic Service System (ACCESS). ACCESS is available to registered users at http://access.trade.gov and is available to all parties in the Central Records Unit, Room B8024 of the main Department of Commerce building. In addition, a complete version of the Issues and Decision Memorandum can be accessed directly on the Enforcement and Compliance website at http://enforcement.trade.gov/frn/. A list of the topics discussed in the Issues and Decision Memorandum is attached as an Appendix to this notice.

Changes Since the Preliminary Results

We did not make any changes for these final results.

Final Results of Review

We determine that the following weighted-average dumping margins exist for the period September 1, 2016, through August 31, 2017.

Producer/exporter | Weighted-average dumping margin (percent)
Çayirova Boru Sanayi ve Ticaret A.Ş. and Yücel Boru İthalat-İhracat ve Pazarlama A.Ş | 1.59
Çayirova Boru San A.Ş | 1.59
HG Tubulars Canada Ltd | 1.59
Yücelboru İhracat, Ithalat | 1.59

Assessment

Pursuant to section 751(a)(2)(A) of the Act and 19 CFR 351.212(b)(1), Commerce will determine, and CBP shall assess, antidumping duties on all appropriate entries of subject merchandise in accordance with the final results of this review. For Yücel, we calculated importer-specific assessment rates on the basis of the ratio of the total amount of antidumping duties calculated for each importer's examined sales and the total entered value of the sales in accordance with 19 CFR 351.212(b)(1).⁹

⁹ In these final results, Commerce applied the assessment rate calculation method adopted in Antidumping Proceedings: Calculation of the Weighted-Average Dumping Margin and Assessment Rate in Certain Antidumping Duty Proceedings; Final Modification, 77 FR 8101 (February 14, 2012).

For entries of subject merchandise during the POR produced by Yücel for which it did not know that the merchandise was destined for the United States, we will instruct CBP to liquidate un-reviewed entries at the all-others rate if there is no rate for the intermediate company(ies) involved in the transaction. For Tosçelik, which we determined had no shipments of subject merchandise in this review period, we will instruct CBP to liquidate any applicable entries of subject merchandise at the all-others rate.¹⁰

¹⁰ See, e.g., Certain Circular Welded Carbon Quality Steel Pipes and Tubes from Taiwan: Final Results of Antidumping Duty Administrative Review and Final Determination of No Shipments; 2016-2017, 83 FR 52204 (October 16, 2018); Certain Crystalline Silicon Photovoltaic Products From Taiwan: Final Results of Antidumping Duty Administrative Review; 2016-2017, 83 FR 30401, 30402 (June 28, 2018).

We intend to issue instructions to CBP 15 days after publication of the final results of this review.

Cash Deposit Requirements

The following cash deposit requirements will be effective upon publication of the notice of final results of the administrative review for all shipments of OCTG from Turkey entered, or withdrawn from warehouse, for consumption on or after the date of publication as provided by section 751(a)(2)(C) of the Act: (1) The cash deposit rate for companies subject to this review will be the rates established in the final results of the review; (2) for merchandise exported by producers or exporters not covered in this administrative review but covered in a prior completed segment of the proceeding, including those for which Commerce has determined had no shipments during the POR, the cash deposit rate will continue to be the company-specific rate published for the most recent period; (3) if the exporter is not a firm covered in this administrative review, a prior review, or the original investigation, but the producer has been covered in a prior complete segment of this proceeding, the cash deposit rate will be the rate established for the most recent period for the producer of the merchandise; and (4) the cash deposit rate for all other producers or exporters will continue to be 35.86 percent,¹¹ the all-others rate established in the less-than-fair-value investigation, adjusted for the export-subsidy rate established in the companion countervailing duty investigation. These cash deposit requirements, when imposed, shall remain in effect until further notice.

¹¹ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691, 53693 (September 10, 2014).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a violation subject to sanction.

Notification to Interested Parties

We are issuing and publishing these results in accordance with sections 751(a)(1) and 777(i)(1) of the Act.

Dated: December 7, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. Discussion of the Issues

Whether the U.S. Sale is Bona Fide

Whether the Dumping Margin was Manipulated

V. Recommendation

[FR Doc. 2018-26973 Filed 12-12-18; 8:45 am]

BILLING CODE 3510-DS-P